DEPARTMENT OF THE INTERIOR

Fish and Wildlife Service

[FWS-R1-R-2015-N020; FF01R05000-FVRS8451-0100000]

Marianas Trench Marine National Monument, Commonwealth of the Northern Mariana Islands; Northern Islands Submerged Lands Transfer to the Commonwealth of the Northern Mariana Islands Draft Environmental Assessment

AGENCY: Fish and Wildlife Service, Interior.

ACTION: Notice of availability; request for comments.

SUMMARY: We, the U.S. Fish and Wildlife Service (Service), announce the availability of a draft environmental assessment (Draft EA) for the Marianas Trench Marine National Monument (Monument) Northern Islands Submerged Lands (submerged lands) Transfer to the Commonwealth of the Northern Mariana Islands (CNMI), for public review and comment. The Draft EA describes our proposal for the Secretary of the Interior to convey specific submerged lands within the Monument from the United States to the CNMI Government under the authority of the Territorial Submerged Lands Act (TSLA), 48 U.S.C. 1705, et seq.

DATES: To ensure consideration of your comments, please send your written comments by June 6, 2016.

ADDRESSES: You can download the Draft EA from our Web site: www.fws.gov/marianastrenchmarinemonument/, and review printed copies of it at the locations listed under SUPPLEMENTARY INFORMATION. Submit comments on the Draft EA and requests for more information by any of the following methods.

Email: fw1_sltransfer_cnmi@fws.gov. Include “Submerged Lands Transfer” in the subject line of the message.

Fax: Attn: Charles Houghten, (503) 231-6161.

U.S. Mail: U.S. Fish and Wildlife Service, Pacific Region, Attn: Charles Houghten, Chief, Lands Division, 911 NE 11th Ave., Portland, OR 97232.

FOR FURTHER INFORMATION CONTACT: Charles Houghten, (503) 231-6207 (phone).

SUPPLEMENTARY INFORMATION:

Introduction

With this notice, we are announcing the availability of our Draft EA developed in cooperation with the National Oceanic and Atmospheric Administration (NOAA) and the CNMI Government, and in compliance with the National Environmental Policy Act (NEPA) of 1969, as amended (42 U.S.C. 4321 et seq.); NEPA Regulations (40 CFR parts 1500-1508); other Federal laws and regulations; and our policies and procedures for compliance with those laws and regulations. We are also requesting public comments on the Draft EA, and will review and consider all comments as part of our NEPA process.

Background

The subject of our EA is the Northern Islands submerged lands surrounding the islands of Farallon de Pajaros (Uracas), Maug, and Asuncion in the CNMI, which include lands permanently or periodically covered by tidal waters up to the mean low water line, and extending three miles seaward from the mean high tide line of each of these islands.

The submerged lands are among some of the most biologically diverse in the Western Pacific Ocean, with relatively pristine coral reef ecosystems that have been proclaimed objects of scientific interest and reserved for protection as part of the Monument's Islands Unit, by Presidential Proclamation 8335 of January 6, 2009.

The submerged lands and associated waters were excepted from transfer to the CNMI Government by operation of the TSLA in Presidential Proclamation 9077 of January 15, 2014. Proclamation 9077 also provided that it did not affect the authority of the Secretary of the Interior granted under the TSLA, to convey the submerged lands after an agreement has been entered for coordination of management that ensures the protection of the Monument.

The Draft EA

The purpose of the Draft EA is to analyze alternatives for the proposed conveyance of the Northern Islands submerged lands and associated waters to the CNMI Government. We identify two alternatives in the Draft EA.

Alternative 1 is our Current Land Status Alternative (No Action); under it, the Department of the Interior (DOI) would not convey the submerged lands, including mineral rights, to CNMI. The Service and NOAA would continue to coordinate management of the submerged lands and associated waters, including fishery-related activities of the Islands Unit, in consultation with the CNMI Government. We would manage the Monument in accordance with the directives of Presidential Proclamation 8335, and implement activities to address priority management needs based on agency-specific authorities and an integrated management plan.

Under our preferred alternative, Alternative 2 (or Northern Islands Submerged Lands Conveyance alternative), DOI would convey the submerged lands, including mineral rights, to the CNMI Government through a patent with a reserved easement. Consistent with the requirements of Proclamation 9077, a Memorandum of Agreement (MOA) would also be implemented to outline the roles and responsibilities of the CNMI Government, the Service, and NOAA, for ensuring protection of the Monument, and managing and conducting activities within the submerged lands and associated waters.

Upon the conveyance of the NISL to CNMI and pursuant to the MOA, the Service and NOAA would, at no additional cost to the CNMI, continue managing the conveyed submerged lands, for the benefit of and in consultation with the CNMI Government, until such time that the CNMI Government notifies the Secretaries of Interior and Commerce of its intent to assume either all or a portion of the management responsibilities of the conveyed submerged lands.

Alternative 2 would allow the CNMI Government to assume primary responsibility for managing and protecting the Northern Islands submerged lands and associated waters consistent with the purposes and requirements of Proclamations 8335 and 9077, and in coordination with the Service and NOAA, at such time as the CNMI Government notifies the Secretaries of Interior and Commerce of its desire to do so. Consistent with the Proclamations 8335 and 9077, this management would include the benthic and living marine resources of the associated water column, and subterranean of the submerged lands, and the associated mineral rights within.

Public Availability of the Draft EA

Printed copies of the Draft EA are available for review at the Commonwealth of the Northern Mariana Islands Bureau of Environmental and Coastal Quality, Gualo Rai Center, Chalan Pale Arnold-Middle Road, Saipan, MP 96950, and the following libraries.

• Joeten-Kiyu Public Library, Beach Road and Insatto St., Saipan, MP 96950.

• Tinian Public Library, San Jose Village, Tinian, MP 96952.

• Antonio Camacho Atalig Memorial Library, Tatachog Village, Rota, MP 96951.

Public Availability of Comments

Before including your address, phone number, email address, or other personal identifying information in your comment, you should be aware that your entire comment—including your personal identifying information—may be made publicly available at any time. While you can ask us in your comment to withhold your personal identifying information from public review, we cannot guarantee that we will be able to do so.

Robyn Thorson,
Regional Director, Pacific Region, Portland, Oregon.

[FR Doc. 2016-09955 Filed 5-3-16; 8:45 am]

BILLING CODE 4333-15-P